DEPARTMENT OF LABOR

Office of the Secretary

Submission for OMB Review: Comment Request

January 23, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: OMB Desk Officer for the Mine Safety and Health Administration (MSHA), Office of Management and Budget, 725 17th Street, NW., Room 10235, Washington, DC 20503, Telephone: 202-395-4816/Fax: 202-395-6974 (these are not toll-free numbers), E-mail: OIRA_submission@omb.eop.gov within 30 days from the date of this publication in the Federal Register. In order to ensure the appropriate consideration, comments should reference the applicable OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title of Collection: Independent Contractor Registration and Identification.

OMB Control Number: 1219-0040.

Form Number: MSHA 7000-52.

Estimated Number of Respondents: 17,145.

Estimated Total Annual Burden Hours: 20,549.

Estimated Total Annual Cost Burden: $520.

Affected Public: Business or other for profits (Mines).

Description: Title 30 CFR part 45 sets forth information requirements and procedures for independent contractors to obtain a MSHA identification number and procedures for service of documents upon independent contractors. The information is used by MSHA during inspections to determine proper responsibility for compliance with safety and health standards and to facilitate proper service of documents. This information is reviewed by MSHA inspectors semi-annually at surface mines, and quarterly at underground mines. MSHA uses the information to issue a permanent MSHA identification number to the independent contractor. This number allows MSHA to keep track of a contractor's violation history so that appropriate civil penalties can be assessed for violations of the Federal Mine Safety and Health Act (Pub. L. 91-173) or its accompanying mandatory health and safety standards contained in Title 30 of the United States Code of Federal Regulations. For additional information, see related notice published on October 10, 2008 at Vol. 73 FR 60356.

Agency: Mine Safety and Health Administration.

Type of Review: Extension without change of currently approved collection.

Title of Collection: Noise Exposure Assessment; Audiometric Testing Evaluation, and Records and Training in all Mines.

OMB Control Number: 1219-0120.

Form Number: None.

Estimated Number of Respondents: 14,726.

Estimated Total Annual Burden Hours: 84,146.

Estimated Total Annual Cost Burden: $5,472,049.

Affected Public: Business or other for profits (Mines).

Description: Records of miner exposures to noise are necessary so that mine operators and MSHA can evaluate the need for and effectiveness of engineering controls, administrative controls, and personal protective equipment to protect miners from harmful levels of noise exposure. Collection of such records is authorized under Section 103(h) of the Federal Mine Safety and Health Act of 1977 (Pub. L. 91-173). 30 CFR 62.110, 62.130, 62.170, 62.171, 62.172, 62.173, 62.174, 62.175, 62.180, and 62.190—Noise exposure assessment; audiometric testing, evaluation, and records and training in all mines, establishes uniform requirements and recordkeeping for the mining industry. For additional information, see related notice published on October 10, 2008 at Vol. 73 FR 60357.

Agency: Mine Safety and Health Administration.

Type of Review: Extension without change of currently approved collection.

Title of Collection: Part 46 Training, Plans, and Records.

OMB Control Number: 1219-0131.

Form Number: None.

Estimated Number of Respondents: 6,325.

Estimated Total Annual Burden Hours: 295,779.

Estimated Total Annual Cost Burden: $493,634.

Affected Public: Business or other for profits (Mines).

Description: MSHA's regulations at 30 CFR part 46 set forth health and safety training and related recordkeeping requirements for shell dredging, sand, gravel, surface stone, surface clay, colloidal phosphate, or surface limestone mines. The records allow operators to show that miners have received the required training. MSHA inspectors use the records to determine that training required by the regulations has been provided. The purpose of these requirements is to decrease accidents, injuries, and fatalities in mining environments. For additional information, see related notice published on October 23, 2008 at Vol. 73 FR 63209.

Darrin A, King,
Departmental Clearance Officer.

[FR Doc. E9-1924 Filed 1-28-09; 8:45 am]

BILLING CODE 4510-43-P